SECURITIES AND EXCHANGE COMMISSION

[File No. 500-1]

In the Matter of WarpRadio.com, Inc., Wireless Frontier Internet, Inc., and World Associates, Inc.; Order of Suspension of Trading

July 2, 2008.

It appears to the Securities and Exchange Commission that there is a lack of current and accurate information concerning the securities of WarpRadio.com, Inc. because it has not filed any periodic reports since the period ended September 30, 2000.

It appears to the Securities and Exchange Commission that there is a lack of current and accurate information concerning the securities of Wireless Frontier Internet, Inc. because it has not filed any periodic reports since September 30, 2004.

It appears to the Securities and Exchange Commission that there is a lack of current and accurate information concerning the securities of World Associates, Inc. because it has not filed any periodic reports since the period ended September 30, 2004.

The Commission is of the opinion that the public interest and the protection of investors require a suspension of trading in the securities of the above-listed companies.

Therefore, it is ordered, pursuant to Section 12(k) of the Securities Exchange Act of 1934, that trading in the above-listed companies is suspended for the period from 9:30 a.m. EDT on July 2, 2008, through 11:59 p.m. EDT on July 16, 2008.

By the Commission.
Florence E. Harmon,
Acting Secretary.

[FR Doc. 08-1415 Filed 7-2-08; 11:14 am]

BILLING CODE 8010-01-P